FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 16, 2016.

A. Federal Reserve Bank of Kansas City (Dennis Denney, Assistant Vice President) 1 Memorial Drive, Kansas City, Missouri 64198-0001:

1. Henry Katz, Ada, Oklahoma and Sandra Beth Katz Sherry, Prairie Village, Kansas, Co-Trustees of the Barbara Katz Cobin Trust, Woodland Hills, California; Sandra Beth Sherry Trust, Prairie Village, Kansas; Marsha Katz Rothpan Trust, West Hills, California and Ronald D Lane Trust, Ada, Oklahoma, and all as members of the Vision Bancshares, Inc. Shareholders Agreement; to retain voting shares of Vision Bancshares, Inc., and thereby indirectly retain voting shares of Vision Bank, N.A., both in Ada, Oklahoma.

Board of Governors of the Federal Reserve System, April 29, 2016.
Michael J. Lewandowski,
Associate Secretary of the Board.

[FR Doc. 2016-10433 Filed 5-3-16; 8:45 am]

BILLING CODE 6210-01-P